DEPARTMENT OF THE INTERIOR

Fish and Wildlife Service

Aquatic Nuisance Species Task Force Western Panel Meeting

AGENCY: Fish and Wildlife Service, Interior.

ACTION: Notice of meeting.

SUMMARY: This notice announces a meeting of the Aquatic Nuisance Species (ANS) Task Force Western Regional Panel. The meeting topics are identified in the SUPPLEMENTARY INFORMATION.

DATES: The Western Regional Panel will meet from 8 a.m. to 4 p.m. on Wednesday, September 8, 2004, 8 a.m. to 4 p.m. on Thursday, September 9, 2004, and 8 a.m. to 1:30 p.m. on Friday, September 10, 2004. Minutes of the meeting will be available for public inspection during regular business hours, Monday through Friday.

ADDRESSES: The Western Regional Panel meeting will be held at the Sheraton Anchorage Hotel, 401 East 6th Avenue, Anchorage, AK 99501. Phone 907-276-8700. Minutes of the meeting will be maintained in the office of Chief, Division of Environmental Quality, U.S. Fish and Wildlife Service, Suite 322, 4401 North Fairfax Drive, Arlington, Virginia 22203-1622.

FOR FURTHER INFORMATION CONTACT: Tina Proctor, Western Panel Coordinator and FWS Regional Aquatic Nuisance Species Program Coordinator, U.S. Fish and Wildlife Service, P.O. Box 25486, DFC, Denver CO, 80225, or Everett Wilson, U.S. Fish and Wildlife Service at 703-358-2108.

SUPPLEMENTARY INFORMATION: Pursuant to section 10(a)(2) of the Federal Advisory Committee Act (5 U.S.C. App. I), this notice announces meetings of the Aquatic Nuisance Species Task Force Western Regional Panel. The Task Force was established by the Nonindigenous Aquatic Nuisance Prevention and Control Act of 1990. The Western Regional Panel was established by the ANS Task Force in 1997 and is comprised of representatives from Federal, State, and local agencies and from private environmental and commercial interests.

The purpose of the Panel is to advise and make recommendations to the Aquatic Nuisance Species Task Force on issues relating to the Western region of the United States that includes: Alaska, Arizona, California, Colorado, Guam, Hawaii, Idaho, Kansas, Montana, North Dakota, Nebraska, Nevada, New Mexico, Oklahoma, Oregon, South Dakota, Texas, Utah, Washington, and Wyoming. Responsibilities of the Panel include:

a. Identifying priorities for the Western Region with respect to aquatic nuisance species;

b. Making recommendations to the Task Force regarding an education, monitoring (including inspection), prevention, and control program to prevent the spread of the zebra mussel west of the 100th Meridian.

c. Coordinating, where possible, other aquatic nuisance species program activities in the Western region that are not conducted pursuant to the Nonindigenous Aquatic Nuisance Prevention and Control Act of 1990 (as amended, 1996);

d. Developing an emergency response strategy for Federal, State, and local entities for stemming new invasions of aquatic nuisance species in the region;

e. Providing advice to public and private individuals and entities concerning methods of controlling aquatic nuisance species; and

f. Submitting an annual report describing activities within the Western region related to aquatic nuisance species prevention, research, and control.

The Western Regional Panel will discuss several topics at this meeting including: ballast water challenges, impact of New Zealand mud snails, member updates, zebra mussels in the Missouri River, zebra mussels in Kansas, assessing the potential ecological and economic impacts of zebra mussels to Western river systems, NAISA status, status of State ANS management plans, reports from other regional panels, the Canadian national strategy to deal with the threat of invasive species, climate change—opening up new routes and pathways, northern pike impacts on native fish, an outreach program to aquarium owners, and aquatic nuisance species in Alaska. There will also be reports on WRP projects: cross boundary Spartina control and eradication, the educational material catalog on a searchable database, the joint Western Governor's Association project and the database of estuarine species in California, Oregon and Washington.

Dated: July 28, 2004.
Mamie A. Parker,
Co-Chair, Aquatic Nuisance Species Task Force, Assistant Director—Fisheries & Habitat Conservation.

[FR Doc. 04-18458 Filed 8-11-04; 8:45 am]

BILLING CODE 4310-55-P